DEPARTMENT OF COMMERCE

Foreign-Trade Zones Board

[B-59-2017]

Foreign-Trade Zone (FTZ) 47—Boone County, Kentucky; Authorization of Production Activity; Valeo North America, Inc.; (Automotive Clutch and Compressor Assemblies); Winchester, Kentucky

On September 19, 2017, Valeo North America, Inc. submitted a notification of proposed production activity to the FTZ Board for its facility within Subzone 47D, in Winchester, Kentucky.

The notification was processed in accordance with the regulations of the FTZ Board (15 CFR part 400), including notice in the Federal Register inviting public comment (82 FR 45262, September 28, 2017). On January 17, 2018, the applicant was notified of the FTZ Board's decision that no further review of the activity is warranted at this time. The production activity described in the notification was authorized, subject to the FTZ Act and the FTZ Board's regulations, including Section 400.14.

Dated: January 17, 2018.
Elizabeth Whiteman,
Acting Executive Secretary.

[FR Doc. 2018-01030 Filed 1-19-18; 8:45 am]

BILLING CODE 3510-DS-P